DEPARTMENT OF STATE

[Public Notice 5353]

Paul Simon Water for the Poor Act 2005 Town Hall Meeting

The U.S. Department of State's Bureau of Oceans and International Environmental and Scientific Affairs would like to invite interested groups and individuals to a “Paul Simon Water for the Poor Act 2005 Town Hall” meeting to be held on April 19, 2006 from 1 p.m. to 3 p.m. in the Loy Henderson Auditorium of the Department of State's Harry S. Truman Building. The Truman Building is located at 2201 C Street, NW., Washington, DC 20520.

The Paul Simon Water for the Poor Act of 2005 (HR 1973/PL-109-121) requires that the Department of State with the U.S. Agency for International Development develop a strategy to further U.S. foreign assistance objectives to provide affordable and equitable access to safe water and sanitation in developing countries. The Act directs that the strategy be developed in consultation with “other appropriate Federal departments and agencies, international organizations, international financial institutions, recipient governments, United States and international nongovernmental organizations, indigenous civil society and other appropriate entities.” The purpose of the Town Hall meeting will be to solicit the individual views of attendees from these and any other interested groups, including their priorities and activities in the water sector; novel approaches to addressing water and sanitation issues in developing countries; impediments to accomplishing priority goals; and areas where the U.S. government could improve the environment for implementation.

In addition, interested parties are invited to submit their written comments to Ms. Aneri Patel, U.S. Department of State, OES/PCI Room 7821, 2201 C Street, NW., Washington, DC 20520 or by e-mail to WPAct2005@state.gov no later than April 30, 2006. Written comments should be limited to 1500 words. Groups wishing to present their observations orally at the meeting will be asked to limit their remarks to 3 minutes. Order of speakers will be on a first come, first served basis on the day of the Town Hall meeting.

Admittance to the Department of State building for all non-Department of State attendees will be granted by means of a pre-arranged clearance list. In order to be placed on the pre-clearance list, please provide your name, title, company, identification (e.g., driver's license number, passport number), date of birth, and citizenship to Ms. Aneri Patel at WPAct2005@state.gov no later than 5 p.m. on April 12, 2006. All attendees for this meeting must use the 23rd Street entrance. One of the following forms of valid photo identification will be required for admittance: U.S. driver's license, passport, student identification card, or U.S. government identification card. Non-U.S. government attendees must be escorted by Department of State personnel at all times when in the building and should plan to arrive at least 15 minutes before the meeting begins.

For further information, please contact Aneri Patel at: 1-866-501-7952 or by e-mail at WPAct2005@state.gov.

Claudia A. McMurray,
Assistant Secretary, Bureau of Oceans and International Environmental and Scientific Affairs, Department of State.

[FR Doc. E6-4472 Filed 3-27-06; 8:45 am]

BILLING CODE 4710-09-P